DEPARTMENT OF COMMERCE

International Trade Administration

[A-570-831]

Fresh Garlic From the People's Republic of China: Extension of Time Limit for Final Results of the 2009-2010 Administrative Review

AGENCY: Import Administration, International Trade Administration, Department of Commerce.

FOR FURTHER INFORMATION CONTACT: Lingjun Wang, AD/CVD Operations, Office 6, Import Administration, International Trade Administration, U.S. Department of Commerce, 14th Street and Constitution Avenue NW., Washington, DC 20230; telephone: (202) 482-2316.

SUPPLEMENTARY INFORMATION:

Background

On October 20, 2011, the Department published partial preliminary results of the administrative review.¹ On December 7, 2011, the Department published preliminary results of the administrative review.² On February 27, 2012, the Department published partial final results of the administrative review.³ The final results of the administrative review are currently due no later than April 5, 2012.

¹ See Fresh Garlic From the People's Republic of China: Partial Preliminary Results, Rescission of, and Intent To Rescind, in Part, the 2009-2010 Administrative Review, 76 FR 65172 (October 20, 2011).

² See Fresh Garlic From the People's Republic of China: Preliminary Results of the 2009-2010 Antidumping Duty Administrative Review, 76 FR 76375 (December 7, 2011) (Preliminary Results).

³ See Fresh Garlic From the People's Republic of China: Partial Final Results and Partial Final Rescission of the 2009-2010 Administrative Review, 77 FR 11486 (February 27, 2012).

Statutory Time Limits

In antidumping duty administrative reviews, section 751(a)(3)(A) of the Tariff Act of 1930, as amended (the Act), requires the Department to make a final determination in an administrative review of an antidumping duty order within 120 days after the day on which the preliminary results are published. However, if it is not practicable to complete the review within this time period, section 751(a)(3)(A) of the Act allows the Department to extend the 120-day period to 180 days after publication of the preliminary results.

Extension of Time Limit for Final Results

The Department has determined that it is not practicable to complete the review within the 120-day time period because it requires additional time to evaluate the surrogate value submissions and arguments made by the interested parties following the Preliminary Results. Therefore, in accordance with section 751(a)(3)(A) of the Act, the Department is extending the time limit for completing the final results of the administrative review from 120 days to 180 days. The final results are now due no later than June 4, 2012.

This notice is published in accordance with sections 751(a) and 777(i) of the Act.

Dated: March 20, 2012.
Gary Taverman,
Acting Deputy Assistant Secretary for Antidumping and Countervailing Duty Operations.

[FR Doc. 2012-7218 Filed 3-23-12; 8:45 am]

BILLING CODE 3510-DS-P